GENERAL SERVICES ADMINISTRATION

Office of Governmentwide Policy; Governmentwide Relocation Advisory Board; Charter Renewal

AGENCY: Office of Governmentwide Policy, GSA.

ACTION: Notice of charter renewal.

SUMMARY: The Administrator of General Services has renewed the charter for the Governmentwide Relocation Advisory Board (Board) (see 69 FR 34676, June 22, 2004), extending it to December 31, 2005. The Board is used to obtain advice and recommendations on a wide range of relocation management issues. The Board's first priority is to review the current policies promulgated through the Federal Travel Regulation (FTR) for relocation allowances.

FOR FURTHER INFORMATION CONTACT: Patrick O'Grady, Room G-219, GSA Building, Washington, DC 20405, (202) 208-4493, or by email at patrick.ogrady@gsa.gov.

SUPPLEMENTARY INFORMATION: This notice is published in accordance with the provisions of the Federal Advisory Committee Act (Pub. L. 92-463), and advises of the renewal of the GSA Governmentwide Relocation Advisory Board (Board). The Administrator of General Services has determined that the renewal of the Board is necessary and in the public interest.

ADDRESSES:You may request a copy of the charter by contacting Patrick O'Grady at patrick.ogrady@gsa.gov, by phone at (202)208-4493; or by FAX at (202)501-0349.

Dated: July 12, 2005
Becky Rhodes,
Deputy Associate Administrator.

[FR Doc. 05-14357 Filed 7-20-05; 8:45 am]

BILLING CODE 6820-14-S